DEPARTMENT OF AGRICULTURE

Agricultural Marketing Service

[DOC. No. AMS-FGIS-18-0077]

Request for Extension and Revision of a Currently Approved Information Collection

AGENCY: Agricultural Marketing Service, USDA.

ACTION: Notice and request for comments.

SUMMARY: In accordance with the Paperwork Reduction Act of 1995 (PRA), this notice announces AMS's intention to request that the Office of Management and Budget (OMB) approve a 3-year extension and revision to a currently approved information collection; a voluntary customer survey concerning the delivery of official inspection, grading, and weighing services authorized under the United States Grain Standards Act (USGSA) and the Agricultural Marketing Act of 1946 (AMA). OMB approved this information collection as OMB 0580-0018 under Grain Inspection, Packers and Stockyards (GIPSA). Due to the realignment of offices authorized by the Secretary's memorandum dated November 14, 2017, which eliminated the GIPSA as a standalone agency, the grain inspection activities formerly part of GIPSA are now under the Agricultural Marketing Service (AMS) and assigned a new OMB control number of 0581-0310.

This voluntary survey gives customers who are primarily in the grain, oilseed, rice, lentil, dry pea, edible bean, and related agricultural commodity markets an opportunity to provide feedback on the quality of services they receive and provides AMS with information on new services that customers wish to receive. Customer feedback assists Federal Grain Inspection Service (FGIS) with enhancing the value of services and service delivery provided by the official inspection, grading, and weighing system.

DATES: We will consider comments that we receive by February 11, 2019.

ADDRESSES: We invite you to submit comments on this notice. You may submit comments by any of the following methods:

Internet: Go to http://www.regulations.gov and follow the online instructions for submitting comments.

Mail, hand deliver, or courier: Jennifer S. Hill, AMS, USDA, 1400 Independence Avenue SW, Room 2410-S, Washington, DC 20250-3620. Fax: (202) 690-3929. Instructions: All comments should be identified as “FGIS customer service survey” and should reference the date and page number of this issue of the Federal Register. The information collection package and other documents relating to this action will be available for public inspection in the above office during regular business hours. All comments will be available for public inspection in the above office during regular business hours (7 CFR 1.27(b)). Please call (202) 690-3929 to arrange to inspect documents.

FOR FURTHER INFORMATION CONTACT: Jennifer S. Hill, Grain Marketing Specialist, International Affairs Division, email address: Jennifer.s.hill@ams.usda.gov, telephone (202) 690-3929.

SUPPLEMENTARY INFORMATION: Congress enacted the USGSA (7 U.S.C. 71 et seq.) and the AMA (7 U.S.C. 1621 et seq.) to facilitate the marketing of grain, oilseeds, pulses, rice, and related commodities. These statutes provide for the establishment of standards and terms which accurately and consistently measure the quality of grain and related products, provide for uniform official inspection and weighing, provide regulatory and service responsibilities, and furnish the framework for commodity quality improvement incentives to both domestic and foreign buyers. FGIS establishes policies, guidelines, and regulations to carry out the objectives of the USGSA and the AMA. Regulations appear at 7 CFR parts 800, 801, and 802 for the USGSA and 7 CFR part 868 for the AMA. The USGSA, with few exceptions, requires official inspection of export grain sold by grade. Official services are provided, upon request, for grain in domestic commerce. The AMA authorizes similar inspection and weighing services, upon request, for rice, pulses, flour, corn meal, and certain other agricultural products. There are approximately 9,000 current users of the official inspection, grading, and weighing programs. These customers are located nationwide and represent a diverse mixture of small, medium, and large producers, merchandisers, processors, exporters, and other financially interested parties. These customers request official services from an FGIS Field Office; delegated, designated, or cooperating State office; or designated private agency office. The goal of FGIS and the official inspection, grading, and weighing system is to provide timely, high quality, accurate, consistent, and professional service that facilitates the orderly marketing of grain and related commodities. To accomplish this goal and in accordance with E.O. 12862, FGIS seeks feedback from customers to evaluate the services provided by the official inspection, grading, and weighing programs.

Title: Survey of Customers of the Official Inspection, Grading, and Weighing Programs (Grain and Related Commodities).

OMB Number: 0581-0310.

Expiration Date of Approval: March 31, 2019.

Type of Request: Extension and revision of a currently approved information collection.

Abstract: the Collecting information using a voluntary service survey provides customers of FGIS and the official inspection, grading, and weighing services an opportunity to evaluate, on a scale of one to five, the timeliness, cost-effectiveness, accuracy, consistency, and usefulness of those services and results, and the professionalism of employees. Customers provide additional comments or indicate what new or existing services they would use if such services were offered or available. FGIS uses the voluntary service survey to maintain a formal means of determining customers' expectations and the quality of official services that are delivered. To collect this information, FGIS would continue to conduct, over a 3-year period, an annual voluntary customer service survey of current and potential customers of the official inspection, grading, and weighing system. FGIS would make the survey available to any interested party who visits our website or is provided the link. The survey instrument would consist of twelve (12) questions only; FGIS tailors subsequent survey instruments to earlier responses. The information collected from the survey permits FGIS to gauge customers' satisfaction with existing services, compare results from year to year, and determine what new services customers desire.

The customer service survey consists of one document containing questions about timeliness, cost effectiveness, accuracy, consistency, usefulness of services and results, and the professionalism of employees. Some examples of survey questions include the following: “I receive results in a timely manner,” “Official results are accurate,” and “Inspection personnel are knowledgeable.” Customers assess survey questions using a one to five rating scale with responses ranging from “strongly disagree” to “strongly agree” or “no opinion.” The survey also asks customers about the products for which they primarily request service, and what percentage of their product is officially inspected. Customers can also provide additional comments or request new or existing services on the survey. The survey provides space for customers to provide their email addresses should they wish to be directly contacted about their survey responses. By obtaining information from customers through a voluntary customer service survey, FGIS believes that it will continue to improve services and service delivery of its official inspection, grading, and weighing programs that meets or exceeds customer expectations.

Estimate of Burden: Public reporting burden for this collection of information is estimated to average 10 minutes (i.e., 0.167 hours) per response.

Respondents: The primary respondents will be interested current or potential customers of the official inspection, grading, and weighing program who either visit the AMS Website or receive the link via outreach communications.

FY 2019: Estimated Number of Respondents: 605 (i.e., 1100 total customers times 55% response rate = 605).

Frequency of Responses: 1.

Estimated Annual Burden: 109 hours. (605 responses times 0.167 hours/response plus 495 non-respondents times 0.0170 hours/response = 109 hours).

FY 2020: Estimated Number of Respondents: 616. (i.e., 1100 total customers times 56% response rate = 616).

Frequency of Responses: 1.

Estimated Annual Burden: 111 hours (616 responses times 0.167 hours/response plus 484 non-respondents times 0.0170 hours/response = 111 hours).

FY 2021: Estimated Number of Respondents: 627 (i.e., 1100 total customers times 57% response rate = 627).

Frequency of Responses: 1.

Estimated Annual Burden: 105 hours (627 responses times 0.167 hours/response plus to 473 non-respondents times 0.0170 hours/response = 113 hours).

As required by the PRA (44 U.S.C. 3506(c)(2)(A)) and its implementing regulations (5 CFR 1320.8(d)(1)(i)), AMS specifically requests comments on: (1) Whether the proposed collection of information is necessary for the proper performance of the functions of the agency, including whether the information will have practical utility; (2) the accuracy of AMS's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this notice will be summarized and included in the request for OMB approval.

All comments will become a matter of public record.

Dated: December 7, 2018.
Greg Ibach,
Under Secretary, Marketing and Regulatory Programs.

[FR Doc. 2018-26930 Filed 12-12-18; 8:45 am]

BILLING CODE 3410-02-P